INTERNATIONAL TRADE COMMISSION

[Investigation Nos. 701-TA-728 and 731-TA-1697 (Final)]

Vanillin From China; Cancellation of Hearing for Antidumping and Countervailing Duty Investigations

AGENCY: United States International Trade Commission.

ACTION: Notice.

DATES: May 28, 2025.

FOR FURTHER INFORMATION CONTACT: Caitlyn Costello (202-205-2058), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On January 16, 2025, the Commission established a schedule for the final phase of the antidumping and countervailing duty investigations (90 FR 9082, February 6, 2025). On May 22, 2025, counsel for Solvay USA LLC (“Solvay”) filed a request to appear at the hearing. No other parties submitted a request to appear at the hearing. On May 27, 2025, counsel for Solvay withdrew its request to appear at the hearing, and on May 28, 2025, filed a request that the Commission cancel the scheduled hearing. Counsel indicated a willingness to respond to any written questions from the Commission in lieu of an in-person hearing. Consequently, the public hearing in connection with these investigations, scheduled to begin at 9:30 a.m. on Thursday, May 29, 2025, is cancelled. Parties to these investigations should respond to any written questions posed by the Commission in their posthearing briefs, which are due to be filed on June 5, 2025.

For further information concerning these investigations see the Commission's notice cited above and the Commission's Rules of Practice and Procedure, part 201, subparts A and B (19 CFR part 201), and part 207, subparts A, D, E, and F (19 CFR part 207).

Authority: These investigations are being conducted under authority of title VII of the Tariff Act of 1930; this notice is published pursuant to § 207.21 of the Commission's rules.

By order of the Commission.
Issued: May 28, 2025.
Lisa Barton,
Secretary to the Commission.

[FR Doc. 2025-09960 Filed 6-2-25; 8:45 am]

BILLING CODE 7020-02-P